DEPARTMENT OF THE INTERIOR

Bureau of Reclamation

Public Meeting for Reclamation's Managing for Excellence Project

AGENCY: Bureau of Reclamation, Interior.

ACTION: Notice of Announcement of a public meeting.

SUMMARY: The Bureau of Reclamation is holding a meeting to inform the public about the Managing for Excellence project. This meeting is the first of three meetings to inform the public about the action items, progress, and results of the Managing for Excellence project and to seek broad feedback. Subsequent meetings will likely be held in September and November 2006 in other metropolitan areas of the Western United States.

DATES: July 10, 1 p.m.-5 p.m. and July 11, 2006, 8 a.m.-12 p.m.

ADDRESSES: Luxor Las Vegas, 3900 Las Vegas Boulevard South, Las Vegas, NV 89119. General Session Room: Egyptian ABC.

FOR FURTHER INFORMATION CONTACT: Kerry Whitford (303) 445-2949.

SUPPLEMENTARY INFORMATION: The Managing for Excellence Project will identify and address the specific 21st Century challenges Reclamation must meet to fulfill its mission to manage, develop, and protect water and related resources in an environmentally and economically sound manner in the interest of the American public. This project will examine Reclamation's core capabilities and the agency's ability to respond to both expected and unforeseeable future needs in an innovative and timely manner. This project will result in essential changes in a number of key areas, which are outlined in, Managing for Excellence—An Action Plan for the 21st Century Bureau of Reclamation. For more information regarding the Project, Action Plan, and specific actions being taken, please visit the Managing for Excellence Web page at http://www.usbr.gov/excellence.

Registration

Although you may register the day of the conference between 10 a.m. and 12 p.m., we highly encourage you to register online at http://www.usbr.gov/excellence, or by phone at 303-445-2808.

Dated: June 7, 2006.
Trudy Harlow,
Acting Deputy Commissioner for External and Intergovernmental Affairs, Washington Office.

[FR Doc. 06-5461 Filed 6-15-06; 8:45 am]

BILLING CODE 4310-MN-M